DEPARTMENT OF LABOR

Employment and Training Administration

[TA-W-42,222 and TA-W-42,222A]

EHV-Weidmann Industries, Inc., a Subsidiary of Wicor Americas, St. Johnsbury, Vermont; and Weidmann Systems International, Inc., St. Johnsbury, Vermont; Amended Certification Regarding Eligibility To Apply for Worker Adjustment Assistance

In accordance with section 223 of the Trade Act of 1974 (19 U.S.C. 2273) the Department of Labor issued a Notice of Certification Regarding Eligibility to Apply for Worker Adjustment Assistance on November 25, 2002, applicable to workers of EHV-Weidmann Industries, Inc., a subsidiary of Wicor Americas, St. Johnsbury, Vermont. The notice was published in the Federal Register on December 23, 2002 (67 FR 78258).

At the request of the company, the Department reviewed the certification for workers of the subject firm. The workers are engaged in the production of electrical insulation boards and components.

Information from the company shows that worker separations occurred at Weidmann Systems International, St. Johnsbury, Vermont a sister company of the subject firm. Workers at Weidmann Systems International, Inc. provide sales and customer services supporting the production of electrical insulation boards and components at the subject firm.

Based on these findings, the Department is amending the certification to include workers of Weidmann Systems International, Inc., St. Johnsbury, Vermont.

The intent of the Department's certification is to include all workers of EHV-Weidmann Industries, Inc., a subsidiary of Wicor Americas, St. Johnsbury, Vermont, who were adversely affected by increased imports.

The amended notice applicable to TA-W-42,222 is hereby issued as follows:

“All workers of EHV-Weidmann Industries, Inc., a subsidiary of Wicor Americas, St. Johnsbury, Vermont (TA-W-42,222) and Weidmann Systems International, Inc. St. Johnsbury, Vermont (TA-W-42,222A), who became totally or partially separated from employment on or after September 17, 2001, through November 25, 2004, are eligible to apply for adjustment assistance under Section 223 of the Trade Act of 1974.”

Signed at Washington, DC this 25th day of November 2003.
Elliott S. Kushner,
Certifying Officer, Division, of Trade Adjustment Assistance.

[FR Doc. 03-31991 Filed 12-30-03; 8:45 am]

BILLING CODE 4510-30-P